DEPARTMENT OF HOMELAND SECURITY

Office of the Secretary

Homeland Security Advisory Council

AGENCY: Office of the Secretary, Department of Homeland Security.

ACTION: Notice of Federal Advisory Committee meeting.

SUMMARY: The Homeland Security Advisory Council (HSAC or Council) will hold its inaugural meeting on Monday June 30, 2003 in Washington, DC. The HSAC will meet for the purposes of: (1) Welcoming and introducing the members of the Council; (2) announcing the Chairs and Vice Chairs of the HSAC's Senior Advisory Committees; (3) receiving briefings by senior government officials on the Department's TOPOFF II exercise; and (4) holding roundtable discussions with and among Council members. This meeting will be partially closed; the open portion of the meeting, for purposes of (1), (2), and (3) above will be held at the Renaissance Mayflower Hotel, 1127 Connecticut Avenue, NW., from 10 a.m. to 12:15 p.m. The closed portion of the meeting, for purposes of (4) above, will be held at the Renaissance Mayflower Hotel from 12:30 to 3 p.m.

Public Attendance: Due to limited availability of seating, members of the public will be admitted on a first-come, first-served basis. In addition, due to security concerns, any member of the public who wishes to attend the meeting must provide his or her name, social security number and date of birth no later than 5 p.m. EDT, Wednesday, June 25, 2003, to Mike Miron, member of the HSAC staff, via email at HSAC@dhs.gov, or via phone at (202) 786-0279. Persons with disabilities who require special assistance should indicate so in their admittance request. Photo identification will be required for entry into the building, and everyone in attendance must be present and seated by 9:40 a.m.

Basis for Closure: In accordance with section 10(d) of the Federal Advisory Committee Act, Public Law 92-463, as amended (5 U.S.C. App. 2), the Secretary has issued a determination that portions of this HSAC meeting will concern matters sensitive to homeland security within the meaning of 5 U.S.C. 552b(c)(7) and (c)(9)(B) and that, accordingly, these portions of the meeting will be closed to the public.

Public Comments: Members of the public who wish to file a written statement with the HSAC may do so by mail to Mike Miron at the following address: Homeland Security Advisory Council, Department of Homeland Security, Washington, DC 20528. Comments may also be sent via email to HSAC@dhs.gov or via fax to (202) 772-9718.

Tom Ridge,
Secretary of Homeland Security.

[FR Doc. 03-15089 Filed 6-11-03; 10:39 am]

BILLING CODE 4410-10-P